SMALL BUSINESS ADMINISTRATION

Region V: Wisconsin District Advisory Council; Public Meeting

The Small Business Administration Region V Wisconsin District Advisory Council, located in the geographical area of Milwaukee, Wisconsin, will hold a public meeting at 12 noon central time on Wednesday, October 24, 2001, at the MMAC building, 756 North Milwaukee Street, 4th Floor, Milwaukee, Wisconsin 53202, to discuss such matters as may be presented by members, staff of the Small Business Administration, or others present.

Anyone wishing to make an oral presentation to the Board must contact Yolanda Staples Lassiter, in writing by letter or fax no later than Monday, October 22, 2001, in order to be put on the agenda. The contact information is as follows: Yolanda Staples Lassiter, EDS, U.S. Small Business Administration, 310 West Wisconsin Ave, Suite 400, Milwaukee, Wisconsin 53202, telephone—(414) 297-1090 or (414) 297-3928 fax.

Steve Tupper,
Committee Management Officer.

[FR Doc. 01-26331 Filed 10-18-01; 8:45 am]

BILLING CODE 8025-01-P